ENVIRONMENTAL PROTECTION AGENCY

[FRL-7548-7]

Office of Research and Development; Board of Scientific Counselors, Executive Committee Meeting

AGENCY: Environmental Protection Agency (EPA).

ACTION: Notice.

SUMMARY: Pursuant to the Federal Advisory Committee Act, Public Law 92-463, as amended (5 U.S.C., App.2) notification is hereby given that the Environmental Protection Agency, Office of Research and Development (ORD), Board of Scientific Counselors (BOSC), will hold an Executive Committee Meeting.

DATES: The Meeting will be held on September 11-12, 2003. On Thursday, September 11, the meeting will begin at 8:30 a.m., and will recess at 4:30 p.m. On Friday, January 12, the meeting will reconvene at 9 a.m. and will adjourn at approximately 2 p.m. All times noted are Eastern Time.

ADDRESSES: The Meeting will be held at the Lowe's L'Enfant Plaza Hotel, 480 L'Enfant Plaza, SW., Washington, DC 20024.

SUPPLEMENTARY INFORMATION: Agenda items to include, but not be limited to: Homeland Security Research Strategy Report, Briefing on EPA's Report on the Environment, Discussion of BOSC Future Issues and Plans, and BOSC Communications Ad-Hoc Committee Draft Report.

Anyone desiring a draft BOSC agenda may fax their request to Shirley R Hamilton (202) 565-2444. The meeting is open to the public. Any member of the public wishing to make a presentation at the meeting should contact Shirley Hamilton, Designated Federal Officer, Office of Research and Development (8701R), 1200 Pennsylvania Avenue, NW., Washington, DC 20460; or by telephone at (202) 564-6853. In general, each individual making an oral presentation will be limited to a total of three minutes.

FOR FURTHER INFORMATION CONTACT: Shirley R. Hamilton, Designated Federal Officer, U.S. Environmental Protection Agency, Office of Research and Development, National Center for Environmental Research (MC 8701R), 1200 Pennsylvania Avenue, NW., Washington, DC 20460, (202) 564-6853.

Dated: August 18, 2003.
John C. Puzak,
Acting Director, National Center for Environmental Research.

[FR Doc. 03-21598 Filed 8-21-03; 8:45 am]

BILLING CODE 6560-50-P